SMALL BUSINESS ADMINISTRATION

[Declaration of Disaster #3623]

State of North Carolina (Amendment #3)

In accordance with a notice received from the Department of Homeland Security—Federal Emergency Management Agency—effective September 27, 2004, the above numbered declaration is hereby amended to include Alleghany, Ashe, and Wilkes Counties as disaster areas due to damages caused by Tropical Storm Frances occurring on September 7, 2004, and continuing through September 12, 2004.

In addition, applications for economic injury loans from small businesses located in the contiguous county of Surry in the State of North Carolina; and Grayson County in the Commonwealth of Virginia may be filed until the specified date at the previously designated location. All other counties contiguous to the above named primary counties have previously been declared.

The economic injury disaster number assigned to Virginia is 9AD500.

All other information remains the same, i.e., the deadline for filing applications for physical damage is November 9, 2004 and for economic injury the deadline is June 10, 2005.

(Catalog of Federal Domestic Assistance Program Nos. 59002 and 59008).
Dated: September 29, 2004.
Herbert L. Mitchell,
Associate Administrator for Disaster Assistance.

[FR Doc. 04-22427 Filed 10-5-04; 8:45 am]

BILLING CODE 8025-01-P